DEPARTMENT OF LABOR

Employment and Training Administration

[TA-W-56,946]

UITS Support Center, A Division Of NBC Universal, Universal City, CA; Notice of Negative Determination Regarding Application for Reconsideration

By application dated May 20, 2005, a petitioner requested administrative reconsideration of the Department's negative determination regarding eligibility for workers and former workers of the subject firm to apply for Trade Adjustment Assistance (TAA). The denial notice applicable to workers of UITS Support Center, a division of NBC Universal, Universal City, California, was signed on April 21, 2005, and published in the Federal Register on May 16, 2005 (70 FR 25859).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition filed on behalf of a worker at UITS Support Center, a division of NBC Universal, Universal City, California, engaged in technical support for the employees of the Universal Studios and Universal Music was denied because the petitioning workers did not produce an article within the meaning of section 222 of the Act.

The petitioner contends that the Department erred in its interpretation of work performed at the subject facility as a service and further conveys that movies which are filmed and taped at the Universal Studios lot should be considered a product and workers dealing with the technological aspects such as soundstage locations, wardrobe inventory and actors' contracts should be considered workers engaged in production.

A company official was contacted for clarification in regard to the nature of the work performed at the subject facility. The official stated that the role of the petitioning group of workers at the subject firm was that of information technology help desk analyst. In particular, workers of the subject firm provided assistance pertaining to computer problems over the telephone to the workers at Universal Studios, Universal City, California. The official further clarified that workers of the University Studios, University City, California, do not manufacture articles, and are engaged in activities related to making movies and television shows.

The company official further stated that the position of help desk analyst was transferred from the subject facility to India.

Technical support is not considered production within the context of TAA eligibility requirements, so there are no imports of products nor was there a shift in production of an “article” abroad within the meaning of the Trade Act of 1974 in this instance.

Service workers can be certified only if worker separations are caused by a reduced demand for their services from a parent or controlling firm or subdivision whose workers produce an article domestically who meet the eligibility requirements, or if the group of workers are leased workers who perform their duties on-site at a facility that meet the eligibility requirements.

Conclusion

After review of the application and investigative findings, I conclude that there has been no error or misinterpretation of the law or of the facts which would justify reconsideration of the Department of Labor's prior decision. Accordingly, the application is denied.

Signed in Washington, DC, this 15th day of July, 2005.
Elliott S. Kushner,
Certifying Officer, Division of Trade Adjustment Assistance.

[FR Doc. E5-4293 Filed 8-8-05; 8:45 am]

BILLING CODE 4510-30-P